DEPARTMENT OF STATE

22 CFR Part 41

[Public Notice: 12783]

RIN 1400-AG01

Visas: Visa Bond Pilot Program

AGENCY: Department of State.

ACTION: Temporary final rule.

SUMMARY: In this temporary final rule (TFR), the Department of State (the Department) announces the commencement of a 12-month long visa bond pilot program. Aliens applying for visas as temporary visitors for business or pleasure (B-1/B-2) and who are nationals of countries identified by the Department as having high visa overstay rates, where screening and vetting information is deemed deficient, or offering Citizenship by Investment, if the alien obtained citizenship with no residency requirement, may be subject to the pilot program. Consular officers may require covered nonimmigrant visa applicants to post a bond of up to $15,000 as a condition of visa issuance, as determined by the consular officers.

DATES: This TFR and pilot program are effective August 20, 2025 until August 5, 2026.

FOR FURTHER INFORMATION CONTACT: Visa Services Office, Bureau of Consular Affairs, Department of State; telephone (202) 485-7586, VisaRegs@state.gov.

SUPPLEMENTARY INFORMATION:

I. Summary

This TFR establishes a visa bond pilot program (“Pilot Program”) under section 221(g)(3) of the Immigration and Nationality Act, as amended (INA), 8 U.S.C. 1201(g)(3), which authorizes consular officers to require the posting of a Maintenance of Status and Departure Bond (“visa bond”) by an alien applying for, and otherwise eligible to receive, a business visitor/tourist (B-1/B-2) visa ¹ “to insure that at the expiration of the time for which such alien has been admitted . . . or upon failure to maintain the status under which [the alien] was admitted, or to maintain any status subsequently acquired under section 1258 of this title [(INA section 248)], such alien will depart from the United States.”

¹ For purposes of this rulemaking, “B1/B2 visa” refers to a business visitor (B-1) visa, tourist (B-2) visa, or combined business visitor/tourist (B-1/B-2) visa.

Historically, Department guidance generally discouraged consular officers from exercising their authority to require visa bonds under INA section 221(g)(3), as reflected in guidance published in Volume 9 of the Foreign Affairs Manual (“9 FAM”), section 403.9-8(A) Bonds Should Rarely Be Used,² which states, “[t]he mechanics of posting, processing and discharging a bond are cumbersome,” and notes possible misperception of a bond requirement by the public. This view of a bond requirement is not supported by any recent examples or evidence, as visa bonds have not generally been required in any recent period, notwithstanding a 2020 pilot program that did not provide any substantive data. The Immigration and Naturalization Service Data Management Improvement Act of 2000 mandated the implementation of an integrated entry and exit data system with annual reports to Congress including among other information, “the number of aliens who arrived pursuant to a nonimmigrant visa . . . for whom no matching departure data have been obtained through the system or through other means as of the end of the alien's authorized period of stay, with an accounting by the alien's country of nationality and date of arrival in the United States.” A review of these reports going back over a decade demonstrates that hundreds of thousands of nonimmigrant visitors fail to timely depart in accord with the terms of their visitor visa.³ The Pilot Program will enable the Department to assess the operational feasibility of posting, processing, and discharging visa bonds, in coordination with the Department of the Treasury (“Treasury”) and the Department of Homeland Security (“DHS”), and to inform any future decision concerning the possible use of visa bonds to ensure nonimmigrants using these visa categories comply with the terms and conditions of their visas and timely depart the United States.

² https://fam.state.gov/FAM/09FAM/09FAM040309.html.

³ See Section 2(a) of the Immigration and Naturalization Service Data Management Improvement Act of 2000 (Pub. L. 106-215, 114 Stat. 337, June 15, 2000) deriving from H.R. 4489 introduced May 18, 2000. As explained in the Congressional Record for May 25, 2000, section 110 of the Illegal Immigration Reform and Immigrant Responsibility Act of 1996 (IIRIRA), mandated an automated entry-exit control system with collection of data related to individuals who overstayed their authorized stay. The legislative effort from 2000 provided then INS with additional time to carry out the mandated entry-exit data collection in order to carry out the purpose of section 110 of the IIRIRA, which was to track individuals who overstay their allowable stay in the United States.

The Department published a temporary final rule in 2020 initiating a six-month visa bond pilot program, aimed at assessing the operational feasibility of a visa bond program, 85 FR 74875 (Nov. 24, 2020). However, in light of the worldwide reduction in global travel as a result of the COVID-19 pandemic, the Department did not implement the pilot and consequently it did not provide any data on the feasibility for full implementation.

This Pilot Program responds to Executive Order 14159, “Protecting The American People Against Invasion,” which directs the Secretary of the Treasury, in coordination with the Secretaries of State and Homeland Security, to “establish a system to facilitate the administration of all bonds” under the provisions of the INA.⁴ Under the Pilot Program, as discussed further below, visa bonds may be required from certain applicants for B-1/B-2 visas who are nationals of countries identified by the Department of State as having high visa overstay rates, where screening and vetting information is deemed deficient or, Citizenship by Investment (“CBI”), if the alien obtained citizenship with no residency requirement. The Department will announce the covered countries via Travel.State.Gov no fewer than 15 days before the Pilot Program takes effect, and this list may be amended throughout the pilot, with 15 days from announcement to enactment.⁵ In announcing the covered countries, the Department will also provide a brief explanation of the basis for requiring bonds consistent with this rule. The face value of visa bonds will be deposited in the appropriate account using the Treasury-hosted https://www.Pay.Gov website via Form I-352, Immigration Bond.

⁴ 90 FR 8443 (Jan. 2029, 2025).

⁵ Aliens traveling under the Visa Waiver Program fall outside the scope of the Pilot Program, as those travelers do not apply for visas.

DHS regulations at 8 CFR 103.6 provide for the posting, processing, and cancellation of such visa bonds. However, the Secretary of Homeland Security delegated the authority to the employees of the Department of State, as designated by the Secretary of State, to perform duties related to the acceptance and processing of maintenance of status and visa bonds.⁶ The Secretary of State consents to Department of State employees performing duties related to the acceptance and processing of visa bonds as described in this TFR. The Department will accept and approve the I-352. Under the process for this Pilot Program, consular officers will require the visa bond be posted via https://www.Pay.Gov as a condition of visa issuance for certain visa applicants. After receiving the visa bond monies, the Treasury will place the visa bond monies in a DHS account, akin to an escrow account, held by Treasury subject to directions from DHS and/or the Department related to breach or cancellation of the visa bond as described in this TFR.

⁶ See 8 U.S.C. 1103(a)(6); 8 CFR 2.1.

II. Purpose of This Rule

The Department is publishing this TFR to establish the Pilot Program, including: (1) the criteria for identifying visa applicants who will be required to post visa bonds; (2) three levels for the amount of the bond, with the level to be selected by the consular officer based on an alien's individual circumstances; (3) how covered countries will be announced; and (4) the duration of the Pilot Program. The Pilot Program will help the Department assess the operational feasibility of posting, processing, and discharging visa bonds, in coordination with Treasury and DHS, for the purpose of ensuring the legally required departure of an alien from the United States as described in section 221(g)(3) of the INA. This Pilot Program will inform any future decision concerning the possible use of visa bonds to address the national security and foreign policy priorities articulated in Executive Order 14159. The Pilot Program is further designed to serve as a diplomatic tool to encourage foreign governments to take all appropriate actions to ensure robust screening and vetting for all citizens in matters of identity verification and public safety, to create safeguards in CBI programs that provide citizenship without any residency in the country, and to encourage specified countries with visa overstays to ensure their nationals timely depart the United States after making temporary visits.

Executive Order 14159 directs the Secretary of the Treasury, in consultation with the Secretary of State and the Secretary of Homeland Security, to “establish a system to facilitate the administration of all bonds that the Secretary of State or the Secretary of Homeland Security may lawfully require to administer the provisions of the INA.” ⁷ The Department intends to use the results of the Pilot Program to assess the operational feasibility of posting, processing, and discharging visa bonds and to assess the burden such a program places on government agencies, which will inform any future decision concerning the possible use of visa bonds to address visa overstay rates and other security concerns, relative to operational considerations. The operational feasibility of posting, processing, and discharging visa bonds focuses on assessing the burdens such a program places on government agencies and identifying challenges that might arise from the interagency process for implementing visa bonds. While this Pilot Program is primarily designed to study the operational feasibility of implementing visa bonds, data collected during the Pilot may also be used to determine the effectiveness of visa bonds at reducing overstays, evaluate concerns about insufficient identity verification, and the extent to which visa bonds may deter otherwise legitimate B-1 and B-2 visa applicants from traveling to the United States.

⁷ 90 FR at 8446.

III. Background

A. Foreign Policy Justification

Executive Order 14159 directs Treasury, in coordination with DHS and the Department, to take all appropriate action to implement a visa bond program. By its design and intention, the Pilot Program is a tool of diplomacy, intended to encourage foreign governments to take immediate action to reduce the overstay rates of their nationals when traveling to the United States for temporary visits, and to encourage countries to improve screening and vetting and the security of travel and civil documents, including in the granting of citizenship. As such, the rule properly is described as a key pillar of the Trump Administration's foreign policy to protect the United States from the clear national security threat posed by visa overstays and deficient screening and vetting.

The Secretary of State determined in Public Notice 12682 ⁸ that securing America's borders and protecting its citizens from external threats is the first and highest priority of the foreign affairs function of the United States.⁹ This effort requires the United States to marshal all available resources and authorities in support of securing the borders of the United States, including removing individual aliens who remain in the United States unlawfully. Executive Order 14159 states that “[m]any of these aliens unlawfully present in the United States present significant threats to national security and public safety, committing vile and heinous acts against innocent Americans. Others are engaged in hostile activities, including espionage, economic espionage, and preparations for terror-related activities. Many have abused the generosity of the American people, and their presence in the United States has cost taxpayers billions of dollars at the Federal, State, and Local levels.” This TFR addresses the Trump Administration's call to protect the American people by faithfully executing the immigration laws of the United States.

⁸ See Determination: Foreign Affairs Function of the United States, 90 FR 12200 (Mar. 14, 2025).

⁹ See, e.g., Executive Orders 14150, 14157, 14160, 14161, 14165.

DHS produces annual reports containing nonimmigrant overstay data. In the DHS FY 2023 Overstay Report, DHS data indicated there were over 500,000 “Suspected In-Country Overstays ¹⁰ (i.e., aliens who remained in the country past the end of their authorized stay and had yet to depart the country) among nonimmigrants admitted through air or sea ports of entry.¹¹ The Department's review of DHS nonimmigrant reports, which have been regularly published since 2015, indicates that the average number of aggregated annual overstays is typically in the hundreds of thousands, with several countries having significant percentages or numbers of individual aliens who are believed to have overstayed their nonimmigrant visas.¹² Furthermore, the total number of annual overstays among foreign nationals admitted to the United States at an air or sea port of entry as nonimmigrant visitors for business or pleasure on a B-1 or B-2 visa, excluding travelers from Mexico, Canada, and Visa Waiver Program (VWP) participating countries,¹³ has fluctuated in recent years, based on statistics published by DHS. For fiscal years beginning 2015, DHS has published an “Overstay Report” with a broad range of statistics relating to “overstays,” which DHS defines, for purposes of these reports, as “a nonimmigrant who was lawfully admitted to the United States for an authorized period but stayed in the United States beyond [his or her] authorized admission period.” ¹⁴ As explained in the report, if a nonimmigrant timely applies for an extension of the authorized period of admission or applies to change or adjust status, the authorized period of admission may be extended, thereby avoiding being counted as overstay. The reports for fiscal years 2015 through 2023 include statistics on foreign nationals who entered the United States at an airport or sea port of entry on a B-1 or B-2 visa, excluding travelers from Mexico, Canada, and VWP participating countries. For fiscal year 2019, DHS reported a total of 320,086 overstays among this category of nonimmigrant visitors, including “out-of-country” overstays (i.e., those who departed some time before the end of FY 2019) and in-country overstays (i.e., those who remained in the United States at the end of FY 2019).¹⁵ The number of such overstays fluctuated during and after the COVID pandemic, rising from 352,748 for FY 2020,¹⁶ to 504,636 for FY 2022,¹⁷ finally back to 314,111 for FY 2023.¹⁸

¹⁰ See DHS, Fiscal Year 2023 Entry/Exit Overstay Report, https://www.dhs.gov/publication/entryexit-overstay-report.

¹¹ “Fiscal Year 2023 Entry/Exit Overstay Report” prepared by DHS and submitted to Congress pursuant to Section 2(a) of the Immigration and Naturalization Service Data Management Improvement Act of 2000 (Pub. L. 106-215, 114 Stat. 337, June 15, 2000) (DHS FY 2023 Overstay Report), found at https://www.dhs.gov/publication/entryexit-overstay-report. In the Report, DHS further explained that by the end of December 2023, the number of Suspected In-Country Overstays for FY 2023 decreased to 510,363, due to departures and adjustments of status by aliens in that population. The report explains that overstay statistics reported do not take into account diplomats and other representatives, crewmembers, aliens in transit, and section 1367 special-protected classes, because they have “unspecified authorized periods of stay and legal protections.” DHS FY 2023 Overstay Report at Section III(C).

¹² See historical listing of DHS Entry/Exit Overstay Reports from 2015 to 2023. Link accessed May 1, 2025. https://www.dhs.gov/publication/entryexit-overstay-report.

¹³ The Visa Waiver Program is described in INA 217, 8 U.S.C. 1187.

¹⁴ DHS Fiscal Year 2023 Entry/Exit Overstay Report, https://www.dhs.gov/publication/entryexit-overstay-report (DHS FY2023 Overstay Report), at Section III(C).

¹⁵ Id. at page 14, Table 2.

¹⁶ DHS Entry/Exit Overstay Report for Fiscal Year 2020, https://www.dhs.gov/publication/entryexit-overstay-report, at page 14, Table 1.

¹⁷ DHS Entry/Exit Overstay Report for Fiscal Year 2022, https://www.dhs.gov/publication/entryexit-overstay-report, at page 12, Table 1.

¹⁸ DHS Entry and Exit Overstay Report for Fiscal Year 2023, https://www.dhs.gov/publication/entryexit-overstay-report, at page 10, Table 1.

By focusing the Pilot Program on certain countries identified as having high visa overstay rates among aliens admitted to the United States for business or pleasure (B-1/B-2) via air and sea ports of entry,¹⁹ where screening and vetting information is deemed deficient, or which offer CBI with no residency requirement, the Department sends a message to all countries to take immediate action to encourage their nationals to comply with U.S. immigration law and address insufficient identity verification and criminal records, including for naturalized citizens of CBI countries without residency requirement. The countries subject to the Pilot Program will be announced on https://www.travel.state.gov and may modified on a rolling basis.

¹⁹ This analysis excluded nationals of Canada, Mexico, and countries that participate in the Visa Waiver Program, because, among other reasons, the procedures or requirements for B-1/B-2 status for nationals of those countries differ from nationals of other countries and generally do not involve applying for visas.

B. Legal Framework Underlying the Pilot Program

As detailed below, the INA grants, and Department regulations implement, consular officer authority to require bonds in appropriate circumstances. Although, historically, as a matter of policy, Department guidance has discouraged consular officers from exercising their authority to require bonds,²⁰ a fresh review of DHS entry-exit data has been compiled since 2015, and pursuant to authorities set forth in 1996 by the Illegal Immigration Reform and Immigrant Responsibility Act, amended by the Immigration and Naturalization Service Data Management Improvement Act of 2000, and viewed in conjunction with E.O. 14159 and Public Notice 12682, the Department is revisiting this historical guidance by first determining the feasibility of a different approach to addressing the significant foreign policy and national security threats presented by the hundreds of thousands of annual nonimmigrant visitor overstays.²¹

²⁰ See 9 FAM 403.9-8(A) Bonds Should Rarely Be Used.

²¹ See 9 FAM 403.9-8(A) Bonds Should Rarely Be Used.

1. INA Provisions

Section 221(g)(3) of the INA, 8 U.S.C. 1201(g)(3), authorizes consular officers to require the posting of a bond by an alien applying for, and otherwise eligible to receive, a business/tourist (B-1/B-2) visa “to insure that at the expiration of the time for which such alien has been admitted . . . or upon failure to maintain the status under which [the alien] was admitted, or to maintain any status subsequently acquired under section 1258 of this title [(INA sec. 248)], such alien will depart from the United States.” INA sec. 221(g)(3), 8 U.S.C. 1201(g)(3), implicitly recognizes that there is no guarantee that an alien will depart in a timely fashion, even when an applicant is found otherwise eligible for the visa. Consequently, the same INA section contemplates that it may be appropriate to require a bond when an applicant is otherwise eligible for a visa.

2. Applicable Regulations

Regulations regarding visa bonds include 22 CFR 41.11(b)(2), which provides that, “[i]n a borderline case in which an alien appears to be otherwise entitled to receive a visa under INA 101(a)(15)(B) or (F) but the consular officer concludes that the maintenance of the alien's status or the departure of the alien from the United States as required is not fully assured, a visa may nevertheless be issued upon the posting of a bond with the Secretary of Homeland Security under terms and conditions prescribed by the consular officer.” Additionally, 22 CFR 41.31(a)(1) references consular officer authority to require bonds from applicants for visas for temporary visits for business or pleasure (B-1/B-2) whose maintenance of status or departure “does not seem fully assured.” 8 CFR 221.1 provides, “The district director having jurisdiction over the intended place of residence of an alien may accept a bond on behalf of an alien defined in section 101(a)(15)(B) or (F) of the Act prior to the issuance of a visa to the alien or upon receipt of a request directly from a U.S. consular officer or upon presentation by an interested person of a notification from the consular officer requiring such a bond; such a bond also may be accepted by the district director with jurisdiction over the port of entry or pre-inspection station where inspection of the alien takes place.” 8 CFR 221.1 also outlines some procedural aspects of bond processing and refers to 8 CFR 103.6 for more procedural rules relating to bonds. Lastly, 8 CFR 103.6 outlines the procedures relating to bond riders, acceptable sureties, cancellation, or breaching of bonds in detail. These regulations reinforce the broad scope of the statutory authority of the Department and consular officers to require bonds to help ensure the timely departure from the United States of any visitor on a B-1/B-2 visa, when the alien is otherwise eligible for a visa, because an alien's departure after entering the United States can never be fully assured at the time of visa issuance or admission to this country.

3. Foreign Affairs Manual

Despite the regulatory foundation for consular officers to issue visa bonds, historically, as a matter of policy, the Department has discouraged consular officers from exercising their authority to require bonds, as reflected in volume 9 of the Foreign Affairs Manual at section 403.9-8(A), which provides, “[a]lthough 22 CFR 41.11(b)(2) permits consular officers, in certain cases, to require a maintenance of status and departure bond, it is Department policy that such bonds will rarely, if ever, be used.” The FAM section indicates that this policy relies, in part, on an assessment that “[t]he mechanics of posting, processing and discharging a bond are cumbersome.” The Pilot Program will help the Department assess the continued reliance upon the untested historical assessment that imposing visa bonds to achieve the foreign policy and national security goals of the United States remains too cumbersome to be practical. The pilot program will allow the Department to truly determine the operational feasibility of posting, processing, and discharging visa bonds, in coordination with Treasury and DHS, and inform future decisions concerning the use of visa bonds as a diplomatic tool to address overstays and insufficient identity verification, including for citizens of CBI countries who obtained citizenship with no residency requirement. The Pilot Program will constitute an exception to that general guidance with respect to the categories of aliens covered by the Pilot Program, during the 12-month duration of the Pilot Program.

IV. Parameters of the Pilot Program

The Pilot Program will last 12 months, beginning on the effective date of this TFR. The program will be limited to aliens who are: applying for B-1/B-2 nonimmigrant visas and are nationals of countries that the Department has identified: (1) as having high visa overstay rates; (2) where screening and vetting information is deemed deficient; or (3) as offering CBI, if the alien obtained citizenship with no residency requirement. The Department has selected these criteria as the bases for requiring a bond because they are generally indicators that an applicant may pose a higher potential to overstay his or her admitted stay in the United States or otherwise fail to maintain the status in which he or she was admitted, or to maintain any nonimmigrant status subsequently acquired. The Department has reached this conclusion for the following reasons. First, the Department finds that a country's high overstay rate is an indicator that a national of that country is at a higher risk of overstaying than nationals of countries with lower overstay rates. Second, the Department finds that nationals of countries where vetting and screening are deficient are nationals for whom there are concerns about overstay risks because the Department has difficulty obtaining full background and criminal history information. Third, nationals of a country with CBI who obtained citizenship with no residency requirement may have insufficient personal history within or connections to their country of nationality for sufficient screening and vetting checks to be conducted. Covered visa applicants will be required to post a bond of up to $15,000 as a condition of visa issuance, with the exact amount of the bond based upon the applicant's circumstances as determined by the consular officer but in an amount of no less than $5,000, unless the bond requirement is waived. Compliance with the bond will require arrival into and departure from the United States by air from one of the airports pre-selected for use during this pilot program, based on their capacity to automatically confirm that the alien has departed the United States in accordance with the bond's conditions. The selected airports will be announced on www.travel.state.gov 15 days ahead of bonds being implemented and may be modified on a rolling basis.

A. Overstay Rates and Deficient Screening and Vetting

For purposes of the Pilot Program, country overstay rates will be determined based on the DHS FY 2023 Overstay Report, which is the most recent edition of this report and was published on August 5, 2024.²² The countries subject to the pilot program will be determined based on DHS published data on overstays by nationals of the country admitted to the United States as a temporary visitor for business or pleasure (B-1/B-2 nonimmigrant status) via air and seaports of entry. The data set excluded Canada, Mexico, and countries participating in the VWP.²³ Regarding countries that have deficient screening and vetting information, Executive Order 14161 directs the Secretary of State to identify “countries throughout the world for which vetting and screening information is so deficient as to warrant a partial or full suspension on the admission of nationals.” Following that review, on June 4, 2025, President Trump issued Proclamation 10949, titled “Restricting the Entry of Foreign Nationals To Protect the United States From Foreign Terrorists and Other National Security and Public Safety Threats,” in which the President determined to either fully or partially restrict and limit the entry of nationals from specific countries.²⁴ Finally, regarding nationals of countries with CBI who obtained citizenship without any residence requirement, these applicants are sometimes able to undergo a name change to conceal past criminal or other illicit ties, and are not tied to the host country`s screening and vetting apparatus. Furthermore, Executive Order 14161 directed the Secretary to “evaluate all visa programs to ensure that they are not used by foreign nation-states or other hostile actors to harm the security, economic, political, cultural, or other national interests of the United States.” The countries covered by the Pilot Program will be announced via travel.state.gov 15 days ahead of bonds being implemented and may be modified on a rolling basis.

²² Id. Id. The FY 2024 report has not yet been released. See DHS Entry/Exit Overstay Reports, https://www.dhs.gov/publication/entryexit-overstay-report. Id.

²³ A country's continued participation in the Visa Waiver Program may depend on overstay rates. See INA section 217(c)(3), (f); 8 U.S.C. 1187(c)(3), (f).

²⁴ 90 FR 24497 (June 4, 2025).

The DHS FY 2023 Overstay Report provides data on departures and overstays, by country of nationality, for foreign visitors to the United States who were expected to depart in FY 2023 (October 1, 2022-September 30, 2023). For purposes of the DHS FY 2023 Overstay Report and this Pilot Program, a “visa overstay” is an alien who was lawfully admitted to the United States and remains in the United States beyond the period of admission authorized by DHS. The initial authorized admission period is a fixed period determined by DHS at the time a B-1/B-2 visa holder applies for admission to the United States, but in some circumstances, an admission period may be extended by U.S. Citizenship and Immigration Services (USCIS) upon adjudication of an application for an extension of stay or change of nonimmigrant status.

Under the terms of the Pilot Program, an alien admitted to the United States for a temporary period as a nonimmigrant will have his or her bond cancelled if the alien (a) complies with all the conditions of each specific nonimmigrant status which she or he is accorded while classified in such status, including the condition that the alien should not accept unauthorized employment, and (b) departs from the United States on or before the date to which he or she is authorized to remain in the United States. An alien will also have his or her bond cancelled if he or she (a) is granted or has timely and properly filed an application for an extension of stay or a change in nonimmigrant status, (b) complies with all the conditions of each specific nonimmigrant status which he or she is accorded while in such status, including the condition that the alien should not accept unauthorized employment, and (c) departs from the United States on or before the extended date to which she or he is authorized to remain in the United States.

The bond obligation shall become due and payable if the alien breaches the visa bond by: (a) violating any condition of his or her status; (b) filing an unexcused untimely application for change of status or extension of his or her lawful admission; (c) remaining in the United States after expiration of the period of admission or (d), if the alien timely and properly files an application for change of status or extension of her or his lawful temporary stay, the alien does not depart the United States within 10 days after denial of such request.

B. Posting Bonds via Treasury's www.Pay.Gov Interface

As noted above, the purpose of the Pilot Program is to assess, in coordination with Treasury and DHS, the operational feasibility of: (1) posting the bond via Treasury's www.Pay.Gov service; and (2) processing, and discharging visa bonds, to inform any future decision concerning the possible use of visa bonds to address overstays and other identified immigration policy concerns.

C. B-1/B-2 Visa Applicants Only

To determine the feasibility of the Pilot Program, the Department is conducting a pilot to collect data and limiting the pilot to aliens whose authorized period of admission in the United States should be concluded within the designated time period, allowing for data collection at all stages of the process. Although section 221(g)(3), of the INA, 8 U.S.C. 1201(g)(3), authorizes consular officers to require visa bonds from applicants for B-1/B-2 visas and F (student) visas, the Pilot Program is limited to B-1/B-2 visa applicants, because their authorized period of stay after admission to the United States is fixed by DHS Customs and Border Protection (CBP) officers at the port of entry and typically lasts a matter of months. CBP officers typically authorize a maximum of one year for business visitors pursuant to 8 CFR 214.2(b)(1), and typically six months for tourists, in accordance with 8 CFR 214.2(b)(2). In contrast, F-1 nonimmigrant students generally are admitted for the duration of their status as of the time this rule was published, pursuant to 8 CFR 214.2(f)(5), which commonly is multiple years. Because the Pilot Program will last only for a limited duration, F-1 nonimmigrant students, who are in most cases likely to be authorized to remain in the United States for multiple years, would be unlikely to complete the bond cycle (which ends with cancellation or breach of the bond) during the duration of the Pilot Program. B-1/B-2 visas issued to aliens covered by the Pilot Program will be annotated to reflect the visa bond requirement. That annotation may be taken into account by CBP officers which will generally limit the period of admission for any such visa holders to 30 days.

D. Limited Waiver Process

For the duration of the Pilot Program, there will be no bond waiver application process. Section 41.11(c)(3) of the Department's regulations in title 22 CFR grants the Deputy Assistant Secretary (DAS) for Visa Services discretionary authority to waive the bond requirement, for an alien or a category of aliens, if the DAS assesses that a waiver would not be contrary to the national interest. Because all visa applicants will be presumed to want a waiver of the bond requirement, and because the only information that might be provided by an applicant that would be relevant to a waiver decision is the applicant's purpose of travel and possibly employment, which already is requested from all applicants, there will be no bond waiver application process. However, consular officers will have the authority to request waivers in very limited circumstances, such as travel for U.S. Government employees or urgent humanitarian needs, and the DAS for Visa Services has the discretionary authority to grant or deny those recommendations.

E. Bond Amounts

In accordance with the statutory and regulatory framework described above, the Department, through consular officers, has broad authority to require a visa applicant to post a bond in such sum and with such conditions as would help ensure the alien's timely departure from the United States. To promote the efficiency of the Pilot Program and avoid arbitrary and inconsistent bond amounts, the Department is setting guidelines for the bond amount. Because INA section 221(g)(3), 8 U.S.C. 1201(g)(3), indicates consular officers must consider each visa applicant's personal circumstances in setting the bond amount, by its reference to the consular officer prescribing a bond's sum and conditions to be sufficient to insure “such alien will depart from the United States” in a timely manner, the Department is providing consular officers three options for bond amounts: $5,000, $10,000, and $15,000. The Department believes these three levels will provide consular officers discretion to require a bond in an amount that is sufficient enough to ensure the alien does not overstay, while taking into account the visa applicant's circumstances.

Consular officers will be expected to set the bond amount at $10,000, unless the officer has reason to believe the visa applicant's circumstances would render the applicant unable to pay that amount (but yet remain sufficiently financed to pay all travel expenses through the period of intended stay in the United States), in which case the bond would be set at $5,000. Alternatively, if the alien's circumstances, including the nature and extent of the alien's contacts in the United States, would suggest a $10,000 bond would not be sufficient to ensure the alien would timely depart the United States, the officer would require a $15,000 bond as a condition of visa issuance. In making such determinations, consular officers will take into account the totality of the circumstances, including any information provided by the visa applicant on the visa application or in the visa interview regarding the alien's purpose of travel, current employment, income, skills, and education.

The three options for bond amounts were set following consultations with Treasury and DHS. In setting the amounts, the Department took into consideration costs associated with removal, including the full Immigration Enforcement Lifecycle cost (including mission support costs) ending with removal, as computed by DHS at approximately $17,121 per alien.²⁵ The Department viewed these costs as relevant, because an alien who overstays his or her authorized period of stay and who must be placed into removal proceedings requires the U.S. government to incur immigration enforcement-related costs that otherwise would not be incurred. For the purposes of the Pilot Program, an alien who breaches a bond would generally forfeit the bond amount, which could be used, in part, to reimburse the U.S. government for expenses incurred in the collection of breached bonds and for expenses associated with the detention of illegal aliens, necessitated by the alien overstaying his or her authorized period of stay.²⁶

²⁵ Immigration Enforcement Lifecycle (IEL) cost represents a fully burdened managerial cost accounting for the average cost burden to perform each aspect of the lifecycle, yielding a total IEL cost per overstaying alien in the year of budget execution. The cost is developed and published by the ICE Office of the CFO (CFO)/Office of Budget Program and Performance (OBPP)/Performance Analysis & Evaluation (PA&E) at the end of each fiscal year. In Fiscal Year (FY) 2024, the Enforcement and Removal Operations (ERO) Policy Planning and Administration (PPA) was given an appropriation of $5.082 billion across its five (5) sub-PPAs to enforce immigration law and remove illegal aliens from the United States. The lifecycle calculation includes the baseline direct cost expenditures of the ERO PPA, which are the personnel and general expenditures required for operational enforcement on a daily basis. To this amount is added the indirect management and administrative (M&A) costs of ICE personnel who assist the ERO Program in accomplishing its mission. This includes support from such components as acquisition (OAQ), information technology (OCIO), asset management (OAFM), human resources (OHC), budget (CFO/OBPP), and legal advisory (OPLA). For FY 2024, the total IEL cost is approximately $17,121 per illegal alien.

²⁶ 8 U.S.C. 1356(r)(3).

F. Duration of Pilot Program

The Department will conduct the Pilot Program for 12 months, beginning on August 20, 2025. The Department determined, in consultation with Treasury and DHS, that 12 months is an adequate period to ensure that multiple visa applicants will have completed the full bond cycle, from the visa interview, through travel to the United States, to a final determination of bond cancellation or breach. Experience with each of the steps of the bond cycle is necessary to assess the operational feasibility of posting, processing and discharging a visa bond, in coordination with Treasury and DHS. Following the conclusion of the Pilot Program, consular officers no longer will require the posting of bonds based on the guidance set out in this TFR; however, any visa bonds posted as part of the Pilot Program will remain in effect until either breached or cancelled, in accordance with terms and conditions set out on Form I-352, Immigration Bond, even after the Pilot Program period has ended.

V. Visa Bond Procedures Under the Pilot Program

A. Applying for a Visa

All applicants from covered countries as listed on Travel.State.Gov will apply for nonimmigrant visas by following the standard procedures including scheduling an appointment at the consular section at a U.S. embassy or consulate and paying the associated Machine-Readable Visa fees.

B. Setting the Bond

During the course of the visa interview, a consular officer will determine if an applicant is otherwise eligible for a visa, and if the applicant falls within the scope of the Pilot Program. If the applicant falls within the scope of the Pilot Program, the consular officer will inform the applicant of the bond requirement and the amount of the required bond, whether $5,000, $10,000, or $15,000. The consular officer will advise the applicant that he or she must post a bond and the consular officer will deny the visa under INA section 221(g), 8 U.S.C. 1201(g), to provide further information about posting the bond through the www.Pay.Gov interface. That denial may be overcome if a bond in the required amount is duly posted within 30 days of the interview by the visa applicant or on the visa applicant's behalf by a single payer. The officer will provide to the applicant: (1) a notice explaining the bond requirement and procedures for posting a cash bond via www.Pay.Gov and (2) the link to the www.Pay.Gov site for posting the bond. DHS regulations at 8 CFR 103.6 currently provide for the posting, processing, and cancellation of such visa bonds. Due to the short duration of the visas being issued, should the visa applicant post the bond more than 30 days after the interview, the consular officer may conduct a further interview to reconfirm the applicant's purpose of travel.

C. Paying the Bond

The Department will email the applicant, using the contact information provided by the applicant, providing him or her a link to submit a Form I-352 associated with his or her application and the required bond amount payable through www.Pay.Gov. Submission of the Form I-352 includes submission of the required bond amount. All terms and conditions set out on Form I-352 applicable to maintenance of status and departure bonds shall apply. The obligor on the bond, whether a person who posts a cash bond on behalf of the visa applicant or the visa applicant, will be informed if the visa applicant fails to comply with the terms and conditions of the bond and, consequently, that the bond has been breached. The procedures for determining and enforcing a breach are set out on Form I-352 and in DHS regulations, including 8 CFR 103.6. However, as stated above, the Secretary of Homeland Security delegated the authority to the employees of the Department of State, as designated by the Secretary of State, to perform duties related to the acceptance and processing of maintenance of status and visa bonds.²⁷ State will receive confirmation from Treasury that the bond has been posted, at which point State will approve the Form I-352 and return an electronic copy to the applicant.

²⁷ See 8 U.S.C. 1103(a)(6); 8 CFR 2.1.

D. Issuing the Visa

The consular section where the visa applicant applied will rely on contact information provided by the applicant to contact the applicant regarding the final process to issue the visa. If, upon further review, the consular officer determines the applicant is not eligible for the requested visa, the consular officer will deny the visa, and the bond will be cancelled. If the required bond is posted, and the consular officer subsequently determines the applicant remains otherwise eligible for a visa, the officer will issue the visa, valid for a single entry within three months of the date of visa issuance, with an annotation indicating the posting of a visa bond.

• This limited visa validity period is necessary to increase the likelihood that travel, notwithstanding the terms of the bond, is completed within a time frame conducive to gathering data from the Pilot Program.

• During the Pilot Program, as a condition of the bond, these visa holders may only enter and depart the United States through pre-selected ports of entry. These ports of entry will be announced via travel.state.gov.

• The visa annotation will alert CBP officers at these ports of entry that the applicant has posted a visa bond under the Pilot Program.

• CBP officers at the port of entry will limit the period of admission to 30 days.

E. Cancellation of the Bond—Return

Pursuant to 8 CFR 103.6(c)(3), the bond should be canceled when there has been “substantial performance of all conditions imposed by the terms of the bond.” ²⁸ Bond proceeds will be returned for any visa holder who complies with the terms and conditions of the bond, based on information provided by DHS through the Arrival and Departure Information System (ADIS) in the following circumstances:

²⁸ Conditions of the bond as set forth in paragraph G(4) of Form I-352.

• Following the timely departure from the United States of a visa holder for whom a bond was posted, as captured in the visa holder's departure from the United States through a designated air port of entry.

• Upon expiration of the visa, if the visa holder did not travel to the United States, as captured by ADIS.

• Following CBP deeming the visa holder inadmissible and cancelling the visa by CBP at the port of entry, as captured by ADIS.

The applicant on any canceled bond will be entitled to a full refund. There will be no accrued interest on visa bonds that are issued and canceled as part of this pilot program. The Department also will provide the applicant with a Notice—Immigration Bond Cancelled (Form I-391), which confirms compliance with the conditions of the bond.

F. Cancellation of the Bond—Manual Request

A visa holder may pursue cancellation of the bond by requesting an appointment with consular officials outside the United States within 30 days of his or her departure from the United States, or if a visa holder wishes to cancel the bond before the visa expires and without traveling. A consular officer will only approve this appointment if the consular officer confirms that the visa holder's departure was not registered in ADIS. A visa holder may confirm his or her identity by presenting a passport and responding to questions by the consular officer to confirm identity. He or she should also provide evidence demonstrating that he or she departed the United States on or before the expiration of their authorized period of stay. There are no particular documents required to demonstrate timely departure from the United States. Travelers may present to the consular officer a variety of information, including but not limited to:

• Original boarding passes used to depart the United States;

• Photocopies of entry or departure stamps in a passport indicating entry to another country after departure from the United States (the traveler should copy all passport pages that are not completely blank, and include the biographical page containing his or her photograph); and

• Photocopies of other supporting evidence, such as:

• Dated pay slips or vouchers from an employer to indicate work in another country after departure from the United States,

• Dated bank records showing transactions to indicate presence in another country after departure from the United States,

• School records showing attendance at a school outside the United States after departure from the United States, and

• Dated credit card receipts showing the traveler's name, with the credit card number deleted, for purchases made after leaving the United States.

The visa holder may also be required to demonstrate that he or she maintained the conditions of his or her status while admitted to the United States. A consular officer then will assess the information received to make a preliminary determination regarding whether the applicant has complied with the terms of the bond or breach has occurred.

E. Bond Breach

If a visa holder fails to comply with the terms and conditions set forth in Form I-352, the bond will be considered breached, and the bond deposit will be forfeited. If the Department makes a preliminary finding that a visa holder has not complied with the terms and conditions of the bond, the Department will then forward the case to DHS, which is responsible for making the final determination pursuant to 8 CFR 103.6(c)(3). A visa bond will be forfeited when there has been a substantial violation of the terms and conditions set forth in paragraph G(4) of Form I-352.

At the conclusion of the Pilot Program, consular officers will no longer require the posting of bonds based on this TFR; however, any bonds posted under the Pilot Program will remain in effect until either breached or cancelled in accordance with their terms and conditions of issuance.

Appeal of a Bond Breach Determination

The rights relating to the appeal of a DHS determination of a bond breach, including which rights would accrue after DHS makes a bond breach determination, are detailed in the instructions on Form I-352 and Form I-290B.

Benefits and Costs

The benefit of this Pilot Program will be a practical assessment of the operational feasibility of posting, processing, and discharging visa bonds and to assess the burden such a program places on government agencies, which will inform any future decision concerning the possible use of visa bonds to address visa overstay rates and other immigration policy goals, relative to operational considerations. If the visa bond program is determined to be operationally feasible, it would serve as a critical diplomatic tool to compel other countries to address overstays by their nationals and to address deficiencies in their identity verification standards and practices.

Until the Pilot Program countries are selected, the Department is unable to estimate the number of visa applicants that will fall within the scope of the Pilot Program. However, the Department expects the parameters of, and the countries included in, the Pilot Program to be limited due to the number of aliens expected to be found otherwise qualified for visas, and uncertainty as to the number of aliens who will choose to post a visa bond. For these reasons, the Department assumes visa bonds will be required for 2,000 visa applicants during the 12-month Pilot Program. If the average bond is $10,000 (from options of $5,000, $10,000, and $15,000), the initial cost to aliens of bonds for 2,000 visa applicants will be $20,000,000. However, assuming all nonimmigrants for whom bonds are posted comply with the terms and conditions of the bond, the actual bond amount is a temporary expenditure that will be fully refunded if cash bonds are posted.

The estimated amount of time needed for an average respondent to complete Form I-352 is thirty minutes (.50 hours) per response. The estimated additional time burden associated with this TFR, which will include arranging for the posting of a bond and returning to a consular section following their departure from the United States to confirm their compliance with the terms and conditions of the bond, is estimated to be two hours.²⁹ The 2024 Bureau of Labor Statistics estimate for the median U.S. hourly wage for all occupations is $23.80,³⁰ thus the Department estimates that this will cost each alien $47.60.

²⁹ If the alien is determined to be eligible for the visa, the alien will be required to pay the bond via www.pay.gov and return to the Consular Section to complete processing and issuance. The Department estimates that for most aliens this will take no more than two hours.

³⁰ https://data.bls.gov/oes/#/industry/000000.

The total cost to the government associated with this Pilot Program will be determined by the number of visa applicants that will fall within the scope of the Pilot Program. That amount will include printing costs, the collection and processing burden for each Form I-352, and additional processing by consular officers. The cost of printing two forms per response is $0.75. The collection and processing of each Form I-352 takes an average of 6 hours and will be conducted by a government employee with an average hourly wage plus overhead, estimated to be $28.02. The estimated additional time a consular officer with an average hourly wage of $135 will expend for each case subject to a bond is 30 minutes. If a traveler breaches a bond posted pursuant to this TFR, DHS will incur some cost in collecting on the bond. Because DHS has no reliable basis for estimating the number of travelers or the percentage of travelers posting bonds who will breach the terms and conditions of the bond, DOS is unable to estimate the cost associated with enforcing bond breaches.

VI. Regulatory Findings

Administrative Procedure Act (APA)

The Secretary of State has determined that all policy related to visa operations and issuance, among other matters, constitutes a foreign affairs function of the United States under the Administrative Procedure Act (5 U.S.C. 553(a)(1)).³¹ The subject matter of this TFR involves visa policy, which is a foreign affairs function of the United States, directly implicating relationships between the United States and the specific countries whose nationals may be subject to the Pilot Program. The Pilot Program will, among other things, allow the Department to study the feasibility of using nonimmigrant visa bonds as a potential diplomatic tool to encourage foreign governments to take immediate action to ensure that their nationals timely depart the United States after making temporary visits. Therefore, this TFR clearly and directly impacts the foreign affairs functions of the United States and “implicat[es] matters of diplomacy directly.” City of N.Y. v. Permanent Mission of India to the U.N., 618 F.3d 172, 202 (2d Cir. 2010).

³¹ See Determination: Foreign Affairs Function of the United States, 90 FR 12200 (Mar. 14, 2025).

Consistent with the Secretary's determination regarding rules that involve a foreign affairs function, the Pilot Program is a tool of diplomacy to influence actions by foreign governments. By requiring visa bonds for visa applicants from the listed countries with high overstay rates for B-1/B-2 visa holders, inadequate documentation or screening and vetting, and CBI without residency, the Pilot Program aims to encourage those countries to cooperate with the United States in ensuring timely departure of their citizens/nationals from the United States and to signal to other countries that the United States takes overstays seriously. The Department's focus on these countries will demonstrate the United States' intolerance of visa overstays and encourage the foreign governments to cooperate in addressing overstays by their nationals. Accordingly, this TFR is properly viewed as one that “clearly and directly involve[s] activities or actions characteristic to the conduct of international relations.” Capital Area Immigrants' Rights Coal. v. Trump, 471 F. Supp. 3d 25, 53 (D.D.C. 2020).

Regulatory Flexibility Act/Executive Order 13272: Small Business

This TFR would not regulate “small entities” as that term is defined in 5 U.S.C. 601(6) and as such would not have a significant economic impact on a substantial number of small entities. This TFR only proposes to regulate individual visa applicants. The Department affirms that this proposed rule would not have a significant economic impact on a substantial number of small entities.

Unfunded Mandates Act of 1995

The Unfunded Mandates Reform Act of 1995, 2 U.S.C. 1532, generally requires agencies to prepare a statement before proposing any rule that may result in an annual expenditure of $100 million or more by State, local, or tribal governments, or by the private sector. This TFR does not require the Department to prepare a statement because it will not result in any such expenditure, nor will it significantly or directly affect small governments, including State, local, or tribal governments, or the private sector. This TFR involves visas for aliens, and does not directly or substantially affect State, local, or tribal governments, or businesses.

Congressional Review Act of 1996

The Office of Information and Regulatory Affairs has determined that this TFR is not a major rule as defined in 5 U.S.C. 804, for purposes of congressional review of agency rulemaking. This TFR will not result in an annual effect on the economy of $100 million or more; a major increase in costs or prices; or significant adverse effects on competition, employment, investment, productivity, innovation, or on the ability of companies based in the United States to compete with foreign based companies in domestic and import markets.

Executive Order 12866 (Regulatory Planning and Review) and Executive Order 13563 (Improving Regulation and Regulatory Review)

Executive Orders 12866 (Regulatory Planning and Review) and 13563 (Improving Regulation and Regulatory Review), direct agencies to assess the costs and benefits of available regulatory alternatives and, if regulation is necessary, to select regulatory approaches that maximize net benefits. These Executive Orders stress the importance of quantifying both costs and benefits, of reducing costs, of harmonizing rules, and of promoting flexibility. The Office of Information and Regulatory Affairs has determined that this is a significant regulatory action under Section 3(f) of Executive Order 12866.

Executive Orders 12372 and 13132—Federalism

This Temporary Final Rule will not have substantial direct effects on the States, on the relationship between the national government and the States, or on the distribution of power and responsibilities among the various levels of government. Nor will the Temporary Final Rule have federalism implications warranting the application of Executive Orders 12372 and 13132.

Executive Order 13175—Consultation and Coordination With Indian Tribal Governments

The Department has determined that this rulemaking will not have tribal implications, will not impose substantial direct compliance costs on Indian tribal governments, and will not pre-empt tribal law. Accordingly, the requirements of Section 5 of Executive Order 13175 do not apply to this rulemaking.

Executive Order 12988—Civil Justice Reform

The Department has reviewed this TFR in light of sections 3(a) and 3(b)(2) of Executive Order 12988 to eliminate ambiguity, minimize litigation, establish clear legal standards, and reduce burden.

Executive Order 14192—Unleashing Prosperity Through Deregulation

This rule is not an Executive Order 14192 regulatory action because it is being issued with respect to foreign affairs and immigration related functions of the United States. The rule's primary direct purpose is to implement or interpret the immigration laws of the United States (as described in INA § 101(a)(17); 8 U.S.C. 1101(a)(17)) or any other function performed by the U.S. Federal Government with respect to aliens.

Paperwork Reduction Act

This TFR does not impose any new reporting or record-keeping requirements subject to the Paperwork Reduction Act, 44 U.S.C. Chapter 35. The Department of State will rely on form I-352 from the Department of Homeland Security, OMB Control Number 1653-0022, to implement the provisions of this rule. The Department of Homeland Security has accounted for this use of the form in its information collection requests to the Office of Management and Budget.

List of Subjects in 22 CFR Part 41

Administrative practice and procedure, Aliens, Passports and visas.

For the reasons stated in the preamble, the Department amends 22 CFR part 41 to read as follows:

PART 41—VISAS: DOCUMENTATION OF NONIMMIGRANTS UNDER THE IMMIGRATION AND NATIONALITY ACT, AS AMENDED

1. The authority citation for part 41 is revised to read as follows:

Authority: 8 U.S.C. 1101; 1102; 1103; 1104; 1182; 1184; 1185 note (section 7209 of Pub. L. 108-458, as amended by section 546 of Pub. L. 109-295); 1323; 1361; 2651a.

2. Amend § 41.11 by adding paragraph (c) to read as follows:

§ 41.11 Entitlement to nonimmigrant status.

* * * * *

(c) Visa Bond Pilot Program—(1) Summary. This paragraph (c) establishes a pilot program (Visa Bond Pilot Program) beginning August 20, 2025 and ending August 5, 2026, implementing INA section 221(g)(3). Under the Visa Bond Pilot Program, consular officers will require a Maintenance of Status and Departure Bond (Visa Bond) to be posted via www.Pay.Gov and accepted by the Department of State, and with the Department of the Treasury accepting all monies to be deposited in a Treasury-held Department of Homeland Security account for the Department of Homeland Security, as a condition of visa issuance, for certain visa applicants.

(2) Visa Bond Pilot Program parameters. Under the Visa Bond Pilot Program, consular officers will require Visa Bonds to be posted by visa applicants who are applying for visas as temporary visitors for business or pleasure (B-1/B-2) and are nationals of a country that the Department identifies as:

(i) Having high visa overstay rates;

(ii) Deficient in its vetting and screening and vetting information; or

(iii) Offering Citizenship by Investment, if the alien obtained citizenship with no residency requirement. Countries deemed to meet these criteria will be identified on the Department's website at www.travel.state.gov no less than 15 days prior to the initiation of the pilot program, and countries may be modified on a rolling basis.

(3) Bond amount and visa validity. Consular officers will set the Visa Bond amount at $5,000, $10,000, or $15,000, based on a consular officer's assessment of which amount is sufficient to ensure the alien will maintain the status under which he or she was admitted or any status subsequently acquired under section 248 of the INA and will not remain in the United States beyond the end of the alien's authorized period of stay. Visas issued under the Visa Bond Pilot Program will be valid for a single entry to the United States within three months of the date of visa issuance.

(4) Bond waiver authority. The Deputy Assistant Secretary for Visa Services may waive the bond requirement, for an alien, country, or a category of aliens, if the Deputy Assistant Secretary assesses that such a waiver is not contrary to the national interest. A waiver of the bond requirement may be recommended to the Deputy Assistant Secretary for Visa Services by a consular officer where the consular officer has reason to believe the waiver would advance a national interest or humanitarian interest. There will be no procedure for visa applicants to apply for a waiver of the bond requirement. Consular officers will determine whether a waiver would advance a significant national interest or humanitarian interest based on the applicant's purpose of travel and employment, as described in the visa application and during the visa interview.

(5) Bond procedures. A Visa Bond required under this paragraph (c) must be submitted via Treasury's www.Pay.Gov interface within 30 days of notification of the bond requirement by the consular officer and will be approved by the Department of State. Upon the posting of such bond, State will receive automatic notification that the bond has been posted in a Treasury-held Department of Homeland Security account and will notify the appropriate consular section overseas.

(i) Under this Visa Bond Pilot Program, Visa Bonds will be administered by the Department of the Treasury, the Department of State, and the Department of Homeland Security in accordance with regulations, procedures, and instructions promulgated by DHS applicable to Form I-352, Immigration Bond.

(ii) A Visa Bond will be canceled when a visa holder substantially performs with respect to the terms and conditions of the Visa Bond as set forth in Form I-352. Conversely, a Visa Bond will be breached when there has been a substantial violation of the terms and conditions set forth in Form I-352. To demonstrate that they complied with the bond requirements, aliens may, for example, depart the United States through pre-selected ports of entry, or schedule an appointment at a consular section outside the United States within 30 days of his or her departure from the United States and, after establishing his or her identity through personal appearance and presentation of a passport, provide information to a consular officer confirming he or she departed the United States on or before the expiration of their authorized period of stay.

(1) Upon doing so, visa holders will have substantially performed the bond requirements, provided the visa holder complied with the conditions of his or her status during his or her period of authorized stay in the United States.

(2) Aliens who do not appear at a consular section still may ensure cancellation of the bond if he or she substantially complies with the terms and conditions of the Visa Bond as set forth in Form I-352.

(3) Aliens who timely file an application for extension of status which is granted are not deemed to be in breach of bond, and the bond will be canceled at the conclusion of his or her authorized period of stay.

(6) Appeal of bond breach determination. A determination of a bond breach may be appealed in accordance with instructions provided by DHS.

(7) Effect on other law. Nothing in this paragraph (c) shall be construed as altering or affecting any other authority, process, or regulation provided by or established under any other provision of Federal law.

John L. Armstrong,
Senior Bureau Official, Bureau of Consular Affairs, U.S. Department of State.

[FR Doc. 2025-14826 Filed 8-4-25; 8:45 am]

BILLING CODE 4710-05-P